DEPARTMENT OF HOMELAND SECURITY

Public Availability of DHS Fiscal Year 2011 Service Contract Inventory

AGENCY: Office of the Chief Procurement Officer, DHS.

ACTION: Notice of availability.

SUMMARY: In accordance with Section 743 of Division C of the Consolidated Appropriations Act of 2010 (Pub. L. 111-117), the Department of Homeland Security (DHS) is publishing this notice to advise the public of the availability of the FY 2011 Service Contract inventory. This inventory provides information on service contract actions over $25,000 that were made in FY 2011. The information is organized by function to show how contracted resources are distributed throughout the agency. The inventory has been developed in accordance with guidance issued on November 5, 2010 by the Office of Management and Budget's Office of Federal Procurement Policy (OFPP). On December 19, 2011, OFPP submitted additional guidance available at http://www.whitehouse.gov/sites/default/files/omb/procurement/memo/service-contract-inventory-guidance.pdf. Except for minor changes to reporting deadlines, the guidance for preparing and analyzing FY 2011 inventories is essentially unchanged from OFFP's November 5, 2010 guidance for preparing the FY 2010 inventory. DHS has posted its FY 2011 inventory for public review at: http://www.dhs.gov/xopnbiz/regulations/editorial_0504.shtm under “Acquisition Reports and Notices.”

FOR FURTHER INFORMATION CONTACT: For questions about this notice, please contact Gail Carter at Gail.A.Carter1@dhs.gov, or telephone (202) 447-5302.

Daniel Clever,
Deputy Chief Procurement Officer.

[FR Doc. 2012-1985 Filed 1-30-12; 8:45 am]

BILLING CODE 9110-9B-P